DEPARTMENT OF LABOR

Employment and Training Administration

Comment Request for Information Collection for the Impact Evaluation of the YouthBuild Program, Extension With Revisions

AGENCY: Employment and Training Administration (ETA), Labor.

ACTION: Notice.

SUMMARY: The Department of Labor (DOL or Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, ETA is soliciting comments concerning the information collection request (ICR) to collect data about the YouthBuild evaluation study participants' educational attainment, employment and earnings, involvement with the criminal justice system, and social and emotional development. This information collection request (ICR) is to obtain extended clearance for MDRC, under contract to ETA, to administer a follow-up survey 48 months after youth were randomly assigned by MDRC to the YouthBuild Evaluation's treatment or control group.

DATES: Submit written comments to the office listed in the addresses section below on or before August 3, 2015.

ADDRESSES: A copy of this ICR with applicable supporting documentation; including a description of the likely respondents, proposed frequency of response, and estimated total burden may be obtained free by contacting Eileen Pederson, Office of Policy Development and Research, Room N-5641, Employment and Training Administration, U.S. Department of Labor, 200 Constitution Avenue NW., Washington, DC 20210. Telephone number: 202-693-3647 (this is not a toll-free number). Individuals with hearing or speech impairments may access the telephone number above via TTY by calling the toll-free Federal Information Relay Service at 1-877-889-5627 (TTY/TDD). Fax: 202-693-2766. Email: Pederson.eileen@dol.gov.

FOR FURTHER INFORMATION CONTACT: Eileen Pederson, 202-693-3647, or Pederson.eileen@dol.gov.

SUPPLEMENTARY INFORMATION:

I. Background

The Impact Evaluation of the YouthBuild program is a seven-year experimental design impact evaluation funded by ETA. YouthBuild is a youth and community development program that addresses several core issues facing low-income communities: available housing, youth education, youth employment and youth criminal behavior. The program primarily serves high school dropouts and focuses on helping them attain a high school diploma or general educational development certificate, and teaching them construction skills geared toward career placement. The Impact Evaluation will measure core program outcomes including educational attainment, postsecondary planning, employment, earnings, delinquency and involvement with the criminal justice system, and youth social and emotional development. The evaluation represents an important opportunity for DOL to add to the growing body of knowledge about the impacts of “second chance” programs for youth who have dropped out of high school. Compared to peers who remain in school, high school dropouts are more likely to be disconnected from school and work, be incarcerated, be unmarried, and have children outside of marriage.

The evaluation of the YouthBuild program will address the following research questions:

• Operation: How is YouthBuild designed in each participating site? What are the key implementation practices that affect how the program operates? How does the local context affect program implementation and the services available to members of the control group?

• Participation: What are the characteristics of youth who enroll in the study? How are these characteristics shaped by YouthBuild recruitment and screening practices?

• Impacts: What are YouthBuild's impacts on educational attainment, planning, and aspirations? What are YouthBuild's impacts on employment, earnings, and job characteristics? What are YouthBuild's impacts on crime and delinquency? What are the program's impacts on social-emotional development, identity development, and self-regulation?

• Costs: How does the net cost per participant compare with the impacts the program generates?

The evaluation study started in June 2010 and is scheduled to continue until July 2017. The study includes a baseline information collection, a web-based survey of YouthBuild grantees, site-specific qualitative and cost data, and three mixed-mode (web and computer-assisted telephone interviewing) surveys of youth that will take place 12, 30, and 48 months after random assignment. The target population for the study is out-of-school youth aged 16-24, who are from low-income families; in foster care; offenders; migrants; disabled; or are children of incarcerated parents.

Members of both the treatment and control groups will complete the 48-month follow-up survey. The survey requests information about the services that participants have received through YouthBuild and other community service providers, as well as information about their educational attainment, postsecondary planning and engagement, employment, earnings, delinquency and involvement with the criminal justice system, and social and emotional development.

On December 18, 2012, the Office of Management and Budget (OMB) approved DOL's request to administer the three follow-up surveys (see ICR Reference #201208-1205-007). That clearance expires on December 31, 2015. This request is to extend OMB clearance of the final survey administration, with minor revisions.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: DOL-ETA.

Type of Review: Extension with changes.

Title of Collection: The Impact Evaluation of the YouthBuild Program.

Form: 48-Month participant follow-up survey.

OMB Control Number: 1205-0503.

Affected Public: Low-income, disadvantaged youth.

Estimated Number of Respondents: 2,749 youth.

Frequency: Once.

Total Estimated Annual Responses: 2,749 (2,749 respondents × 1 survey).

Estimated Average Time per Response: 35 minutes.

Estimated Total Annual Burden Hours: 1,604 hours for the 48-month survey (2,749 responses × 35 minutes per response ÷ 60 minutes = 1,604 burden hours).

Total Estimated Annual Other Cost Burden: $11,629 (2,749 responses × 35 minutes per response × $7.25 per hour = $11,629).

We will summarize and/or include in the request for OMB approval of the ICR, the comments received in response to this comment request; they will also become a matter of public record.

Portia Wu,
Assistant Secretary for Employment and Training, Labor.

[FR Doc. 2015-13375 Filed 6-1-15; 8:45 am]

BILLING CODE 4510-FT-P